Proclamation 7398 of January 17, 2001

Establishment of the Upper Missouri River Breaks National Monument

By the President of the United States of America

A Proclamation

The Upper Missouri River Breaks National Monument contains a spectacular array of biological, geological, and historical objects of interest. From Fort Benton upstream into the Charles M. Russell National Wildlife Refuge, the monument spans 149 miles of the Upper Missouri River, the adjacent Breaks country, and portions of Arrow Creek, Antelope Creek, and the Judith River. The area has remained largely unchanged in the nearly 200 years since Meriwether Lewis and William Clark traveled through it on their epic journey. In 1976, the Congress designated the Missouri River segment and corridor in this area a National Wild and Scenic River (Public Law 94-486, 90 Stat. 2327). The monument also encompasses segments of the Lewis and Clark National Historic Trail, the Nez Perce National Historic Trail, and the Cow Creek Island Area of Critical Environmental Concern.

Lewis and Clark first encountered the Breaks country of the monument on their westward leg. In his journal, Clark described the abundant wildlife of the area, including mule deer, elk, and antelope, and on April 29, 1805, the Lewis and Clark expedition recorded the first big horn sheep observation by non-Indians in North America. Lewis' description of the magnificent White Cliffs area on the western side of the monument is especially vivid, and not just for his sometimes colorful spellings:

“The hills and river Clifts which we passed today exhibit a most romantic appearance.... The bluffs of the river rise to hight of from 2 to 300 feet and in most places nearly perpendicular; they are formed of remarkable white sandstone which is sufficiently soft to give way readily to the impression of water...

“The water in the course of time ... has trickled down the soft sand clifts and woarn it into a thousand grotesque figures, which with the help of a little immagination and an oblique view, at a distance are made to represent eligant ranges of lofty freestone buildings, having their parapets well stocked with statuary; collumns of various sculptures both grooved and plain, are also seen supporting long galleries in front of these buildings; in other places on a much nearer approach and with the help of less immagination we see the remains or ruins of eligant buildings; some collumns standing and almost entire with their pedestals and capitals; others retaining their pedestals but deprived by time or accident of their capitals, some lying prostrate an broken othe[r]s in the form of vast pyramids of conic structure bearing a serees of other pyramids on their tops...

As we passed on it seemed as if those seens of visionary inchantment would never have and [an] end; for here it is too that nature presents to the view of the traveler vast ranges of walls of tolerable workmanship, so perfect indeed are those walls that I should have thought that nature had attempted here to rival the human art of masonry...”

The monument is covered with sedimentary rocks deposited in shallow seas that covered central and eastern Montana during the Cretaceous period. Glaciers, volcanic activity, and erosion have since folded, faulted, uplifted, and sculpted the landscape to the majestic form it takes today.

The area remains remote and nearly as undeveloped as it was in 1805. Many of the biological objects described in Lewis' and Clark's journals continue to make the monument their home. The monument boasts the most viable elk herd in Montana and one of the premier big horn sheep herds in the continental United States. It contains essential winter range for sage grouse as well as habitat for prairie dogs. Lewis sent Jefferson a prairie dog specimen which was, as Lewis noted at the time, “new to science.” Abundant plant life along the River and across the Breaks country supports this wildlife. The lower reach of the Judith River, just above its confluence with the Missouri, contains one of the few remaining fully functioning cottonwood gallery forest ecosystems on the Northern Plains. Arrow Creek, originally called Slaughter River by Lewis and Clark, contains the largest concentration of antelope and mule deer in the monument as well as important spawning habitat for the endangered pallid sturgeon. An undammed tributary to the Missouri River, Arrow Creek is a critical seed source for cottonwood trees for the flood plain along the Missouri.

The cliff faces in the monument provide perching and nesting habitat for many raptors, including the sparrow hawk, ferruginous hawk, peregrine falcon, prairie falcon, and golden eagle. Several pairs of bald eagles nest along the River in the monument and many others visit during the late fall and early winter. Shoreline areas provide habitat for great blue heron, pelican, and a wide variety of waterfowl. The River and its tributaries in the monument host forty-eight fish species, including goldeye, drum, sauger, walleye, northern pike, channel catfish, and small mouth buffalo. The monument has one of the six remaining paddlefish populations in the United States. The River also supports the blue sucker, shovel nose sturgeon, sicklefin, sturgeon chub, and the endangered pallid sturgeon.

The Bullwacker area of the monument contains some of the wildest country on all the Great Plains, as well as important wildlife habitat. During the stress-inducing winter months, mule deer and elk move up to the area from the river, and antelope and sage grouse move down to the area from the benchlands. The heads of the coulees and breaks also contain archeological and historical sites, from teepee rings and remnants of historic trails to abandoned homesteads and lookout sites used by Meriwether Lewis.

Long before the time of Lewis and Clark, the area was inhabited by numerous native tribes, including the Blackfeet, Assiniboin, Gros Ventre (Atsina), Crow, Plains Cree, and Plains Ojibwa. The confluence of the Judith and Missouri Rivers was the setting for important peace councils in 1846 and 1855. In 1877, the Nez Perce crossed the Missouri and entered the Breaks country in their attempt to escape to Canada. The Cow Island Skirmish occurred in the Breaks and was the last encounter prior to the Nez Perce surrender to the U.S. Army at the Battle of Bear Paw just north of the monument. Pioneers and the Army followed Lewis and Clark in the 1830s establishing Fort Piegan, Fort McKenzie, and Fort Benton. Remnants of this rich history are scattered throughout the monument, and the River corridor retains many of the same qualities and much of the same appearance today as it did then.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as a national monument to be known as the Upper Missouri River Breaks National Monument:

NOW, THEREFORE, I, WILLIAM J. CLINTON, President of the United States of America, by the authority vested in me by section 2 of the Act of June 8, 1906 (34 Stat. 225, 16 U.S.C. 431), do proclaim that there are hereby set apart and reserved as the Upper Missouri River Breaks National Monument, for the purpose of protecting the objects identified above, all lands and interests in lands owned or controlled by the United States within the boundaries of the area described on the map entitled “Upper Missouri River Breaks National Monument” attached to and forming a part of this proclamation. The Federal land and interests in land reserved consist of approximately 377,346 acres, which is the smallest area compatible with the proper care and management of the objects to be protected.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument. The establishment of this monument is subject to valid existing rights. The Secretary of the Interior shall manage development on existing oil and gas leases within the monument, subject to valid existing rights, so as not to create any new impacts that would interfere with the proper care and management of the objects protected by this proclamation.

The Secretary of the Interior shall prepare a transportation plan that addresses the actions, including road closures or travel restrictions, necessary to protect the objects identified in this proclamation.

For the purpose of protecting the objects identified above, the Secretary shall prohibit all motorized and mechanized vehicle use off road, except for emergency or authorized administrative purposes.

Lands and interests in lands within the proposed monument not owned by the United States shall be reserved as a part of the monument upon acquisition of title thereto by the United States.

The Secretary of the Interior shall manage the monument through the Bureau of Land Management, pursuant to applicable legal authorities, including the National Wild and Scenic Rivers Act, to implement the purposes of this proclamation.

Because waters of the Upper Missouri River through the monument area have already been reserved through the Congress's designation of the area as a component of the National Wild and Scenic River System in 1976, this proclamation makes no additional reservation of water, except in two small tributaries, the Judith River and Arrow Creek. These tributaries contain outstanding objects of biological interest that are dependent on water, such as a fully functioning cottonwood gallery forest ecosystem that is rare in the Northern Plains. Therefore, there is hereby reserved, as of the date of this proclamation and subject to valid existing rights, a quantity of water in the Judith River and Arrow Creek sufficient to fulfill the purposes for which this monument is established. Nothing in this reservation shall be construed as a relinquishment or reduction of any water use or rights reserved or appropriated by the United States on or before the date of this proclamation.

Nothing in this proclamation shall be deemed to enlarge or diminish the jurisdiction of the State of Montana with respect to fish and wildlife management.

Nothing in this proclamation shall be deemed to enlarge or diminish the rights of any Indian tribe.

Laws, regulations, and policies followed by the Bureau of Land Management in issuing and administering grazing permits or leases on all lands under its jurisdiction shall continue to apply with regard to the lands in the monument.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this seventeenth day of January, in the year of our Lord two thousand one, and of the Independence of the United States of America the two hundred and twenty-fifth.

Billing code 3195-01-P

[FR Doc. 01-2103

Filed 1-19-01; 8:45 am]

Billing code 3195-01-C